GENERAL SERVICES ADMINISTRATION

[Notice-MK-2013-08; Docket No. 2013-0002; Sequence 27]

The Presidential Commission on Election Administration (PCEA); Upcoming Public Advisory Meetings

AGENCY: Office of Government-wide Policy, U.S. General Services Administration (GSA).

ACTION: Meeting notice.

SUMMARY: The Presidential Commission on Election Administration (PCEA), a Federal Advisory Committee established in accordance with the Federal Advisory Committee Act (FACA), 5 U.S.C., App., and Executive Order 13639, as amended by EO 13644, will hold meetings open to the public on Thursday, September 19, 2013 and Friday, September 20, 2013.

DATES: Meeting date: The meetings will be held on Thursday, September 19, 2013 and Friday, September 20, 2013, beginning at 8:00 a.m. Eastern Time on the 19th and ending at 4:30, and beginning at 8:30 a.m. on the 20th and ending no later than 6:00 p.m.

FOR FURTHER INFORMATION CONTACT: Mr. Mark Nejbauer, Designated Federal Officer, General Services Administration, Presidential Commission on Election Administration, 1776 G Street NW., Washington, DC 20006, email mark.nejbauer@supportthevoter.gov.

SUPPLEMENTARY INFORMATION:

Background: The PCEA was established to identify best practices and make recommendations to the President on the efficient administration of elections in order to ensure that all eligible voters have the opportunity to cast their ballots without undue delay, and to improve the experience of voters facing other obstacles in casting their ballots.

Agenda: The purpose of these meetings is for the PCEA to receive information to assist its members in collecting information and data relevant to its deliberations on the subjects set forth in Executive Order 13639, as amended. The agendas will be as follows:

For September 19th:

• Exhibits of voting equipment.

• Presentation by voting equipment manufacturers and designers on the future of voting technology.

• Testimony by state and country election officials on the future of voting technology.

• Testimony by technologists and standards experts on the future of voting technology.

For September 20th:

• Testimony by state, county and local election officials.

• Receipt of reports by experts in some of the subject areas detailed in Executive Order 13639.

• Testimony by interested members of the public.

Meeting Access: The PCEA will convene its meetings in the Duke Energy Convention Center—Jr. Ballroom C&D, 525 Elm St. Cincinnati, Ohio 45202. This site is accessible to individuals with disabilities. The meetings may also be webcast or made available via audio link. Please refer to PCEA's Web site, http://www.supportthevoter.gov, for the most up-to-date meeting agenda and access information.

Attendance at the Meeting: Individuals interested in attending the meetings must register in advance because of limited space. Please contact Mr. Nejbauer at the email address above to register to attend either or both of these meetings and obtain meeting materials. Materials may also be accessed online at http://www.supportthevoter.gov. To attend these meetings, please submit your full name, organization, email address, and phone number to Mark Nejbauer by 5:00 p.m. Eastern Time on Monday, September 16, 2013. Detailed meeting minutes will be posted within 90 days of the meeting.

Procedures for Providing Public Comments: In general, public comments will be posted on the PCEA Web site (see above). All comments, including attachments and other supporting materials, received are part of the public record and subject to public disclosure. Any comments submitted in connection with the PCEA meetings will be made available to the public under the provisions of the Federal Advisory Committee Act.

Contact Mark Nejbauer at mark.nejbauer@supportthevoter.gov to register to comment during the meeting's public comment period on September 20th. Registered speakers will be allowed a maximum of 3 minutes each due to limited time for individual testimony. Written copies providing expanded explanations of witnesses' presentations are encouraged.

The public is invited to submit written comments for the September 20, 2013, meeting until 5:00 p.m. Eastern Time on Monday, September 16, 2013, by either of the following methods:

Electronic or Paper Statements: Submit electronic statements to Mr. Nejbauer, Designated Federal Officer at mark.nejbauer@supportthevoter.gov; or send three (3) copies of any written statements to Mr. Nejbauer at the PCEA GSA address above. Written testimony not received by 5:00 p.m. Eastern Time on September 16th may be submitted but will not be considered at the September 20th meeting.

Dated: August 29, 2013.
Anne Rung,
Associate Administrator, Office of Government-wide Policy, General Services Administration.

[FR Doc. 2013-21802 Filed 9-6-13; 8:45 am]

BILLING CODE 6820-14-P